DEPARTMENT OF DEFENSE

Defense Acquisition Regulations System

48 CFR Part 207

RIN 0750-AH12

Defense Federal Acquisition Regulation Supplement; Definition of Multiple-Award Contract (DFARS Case 2011-D016)

AGENCY: Defense Acquisition Regulations System, Department of Defense (DoD).

ACTION: Final rule.

SUMMARY: DoD is issuing a final rule amending the Defense Federal Acquisition Regulation Supplement (DFARS) to revise the definition of multiple-award contract.

DATES: Effective Date: April 27, 2011.

FOR FURTHER INFORMATION CONTACT: Mr. Dustin Pitsch, 703-602-0289.

SUPPLEMENTARY INFORMATION:

I. Background

This DFARS case is amending the definition of “multiple-award contract” at DFARS 207.107-2. The revised DFARS language is correcting previous imprecision in implementing the statute. No policy or substantive changes are made. The final rule amendments are made to correct the current definition by—

—Deleting “Orders placed using” to reflect that the multiple-award contract is the basic schedule contract, and not the individual orders placed under it;

—Adding “or Department of Veterans Affairs” to correctly reflect the agencies that have statutory authority to issue schedule contracts; and

—Adding hyphens where appropriate for unit modifiers.

DoD has issued a final rule because this change does not have a significant effect beyond the internal operating procedures of DoD and does not have a significant cost or administrative impact on contractors or offerors. Therefore, public comment is not required in accordance with 41 U.S.C 1707.

II. Executive Order 12866 and Executive Order 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

III. Regulatory Flexibility Act

The Regulatory Flexibility Act does not apply to this rule. This final rule does not constitute a significant DFARS revision within the meaning of FAR 1.501 and public comment is not required in accordance with 41 U.S.C. 418b(a).

IV. Paperwork Reduction Act

This final rule does not contain any information collection requirements that require the approval of the Office of Management and Budget under the Paperwork Reduction Act (44 U.S.C. chapter 35).

List of Subjects in 48 CFR Part 207

Government procurement.

Mary Overstreet,
Editor, Defense Acquisition Regulations System.

Therefore, 48 CFR part 207 is amended as follows:

PART 207—ACQUISITION PLANNING

1. The authority citation for 48 CFR part 207 continues to read as follows:

Authority: 41 U.S.C. 1303 and 48 CFR chapter 1.

2. Section 207.170-2 definition of “Multiple award contract” is amended by revising paragraphs (1) and (2) to read as follows:

207.170-2 Definitions.

* * * * *

Multiple-award contract means—

(1) A multiple-award schedule contract issued by the General Services Administration or Department of Veterans Affairs as described in FAR subpart 8.4;

(2) A multiple award task-order or delivery-order contract issued in accordance with FAR subpart 16.5; or

* * * * *

[FR Doc. 2011-10087 Filed 4-26-11; 8:45 am]

BILLING CODE 5001-08-P